DEPARTMENT OF EDUCATION

Race to the Top—District

AGENCY: Office of the Deputy Secretary, Department of Education.

ACTION: Notice extending the deadline of the fiscal year (FY) 2013 Race to the Top—District competition for certain local educational agencies.

Catalog of Federal Domestic Assistance (CFDA) Number: 84.416.

SUMMARY: The Secretary is extending the application deadline in the FY 2013 Race to the Top—District competition for certain local educational agencies (LEAs). The Secretary takes this action to allow more time for the preparation and submission of applications by potential applicants adversely affected by flooding in certain counties in Colorado. The extension is intended to help these potential applicants compete fairly with other applicants in this competition.

DATES: Deadline for Transmittal of Applications: For LEAs located in Colorado counties designated for Individual Assistance or Public Assistance under the Presidential major disaster (DR-4145) or emergency (EM-3365) declarations resulting from the September 2013 severe storms, flooding, landslides, and mudslides (the Affected Counties), and for consortium applicants that include one or more LEAs located in those counties, the new deadline is 4:30:00 p.m. Washington, DC time on Thursday, October 10, 2013.

FOR FURTHER INFORMATION CONTACT: James Butler, U.S. Department of Education, 400 Maryland Avenue SW., Room 7e214, Washington, DC 20202. Telephone: (202) 453-6800 or by email: 2013.racetothetop.district@ed.gov.

If you use a telecommunications device for the deaf (TDD) or a text telephone (TTY), call the Federal Relay Service (FRS), toll free, at 1-800-877-8339.

SUPPLEMENTARY INFORMATION: See Emergency (EM-3365) available at: http://www.fema.gov/disaster/3365/designated-areas and Major Disaster (DR-4145) available at: http://www.fema.gov/disaster/4145/designated-areas.

This extended deadline applies to consortium applicants that include one or more LEAs located in the Affected Counties.

The original deadline of October 3, 2013, still applies for individual LEA applicants not located in the Affected Counties and for consortium applicants that consist solely of LEAs not located in the Affected Counties.

All other information in the August 6, 2013, Notice Inviting Applications (78 FR 48006) for this competition remains the same.

Information about the Race to the Top—District program is available on the Department's Web site at http://www2.ed.gov/programs/racetothetop-district/index.html.

Individuals with disabilities can obtain this document and a copy of the application package in an accessible format (e.g., braille, large print, audiotape, or compact disc) by contacting the program person listed in this section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department. Program Authority: Sections 14005 and 14006 of the ARRA (Pub. L. 111-5), as amended by section 1832(b) of Division B of the Department of Defense and Full-Year Continuing Appropriations Act, 2011 (Pub. L. 112-10), and the Department of Education Appropriations Act, 2012 (Title III of Division F of Pub. L. 112-74, the Consolidated Appropriations Act, 2012).

Dated: September 26, 2013.
Arne Duncan,
Secretary of Education.

[FR Doc. 2013-23908 Filed 9-30-13; 8:45 am]

BILLING CODE 4000-01-P